SECURITIES AND EXCHANGE COMMISSION

Proposed Collection; Comment Request

Upon Written Request, Copies Available From: Securities and Exchange Commission, Office of Filings and Information Services, Washington, DC 20549-0004.

Extension

Rule 88 and Form U-13-1, SEC File No. 270-80, OMB Control No. 3235-0182.

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form U-13-1, Section 259.113 [17 CFR 259.113] under the Public Utility Holding Company Act of 1935, as amended (“Act”), 15 U.S.C. 79, et seq., is required to be filed under Rule 88 of the Act by companies seeking Commission approval to become mutual service companies under the Act.

Rule 88 under the Act, which implements Section 13 of the Act, requires the information collection prescribed by Form U-13-1. The Commission estimates that the total annual reporting and record keeping burden of collections for Form U-13-1 is 88 hours (22 responses × 4 hours = 88 hours).

The estimate of average burden hours are made for purposes of the Paperwork Reduction Act and are not derived from a comprehensive or representative survey or study of the costs of complying with the requirements of Commission rules and forms.

Written comments are invited on: (1) Whether the proposed collection of information is necessary for the proper performance of the functions of the agency, including whether the information will have practical utility; (2) the accuracy of the agency's estimate of the burden of the collection of information; (3) ways to enhance the quality, utility and clarity of the information collected; and (4) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 5th Street NW., Washington, DC 20549-0004.

Dated: December 10, 2003.
Margaret H. McFarland,
Deputy Secretary.

[FR Doc. 03-31118 Filed 12-16-03; 8:45 am]

BILLING CODE 8010-01-P